DEPARTMENT OF COMMERCE

Foreign-Trade Zones Board

[S-24-2024]

Foreign-Trade Zone 44; Application for Expansion of Subzone 44P; Givaudan Fragrances Corporation; Mount Olive, New Jersey

An application has been submitted to the Foreign-Trade Zones (FTZ) Board by the State of New Jersey, Department of State, grantee of FTZ 44, requesting an expansion of Subzone 44P on behalf of Givaudan Fragrances Corporation (Givaudan), in Mount Olive, New Jersey. The application was submitted pursuant to the provisions of the Foreign-Trade Zones Act, as amended (19 U.S.C. 81a-81u), and the regulations of the FTZ Board (15 CFR part 400). It was formally docketed on February 7, 2024.

The application requests authority to expand Subzone 44P to include the following new site: Site 4 (5.93 acres) 313 Waterloo Valley Road, Mount Olive, New Jersey. No authorization for additional production activity has been requested at this time. The proposed expanded subzone would be subject to the existing activation limit of FTZ 44.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is March 25, 2024. Rebuttal comments in response to material submitted during the foregoing period may be submitted during the subsequent 15-day period to April 8, 2024.

A copy of the application will be available for public inspection in the “Online FTZ Information Section” section of the FTZ Board's website, which is accessible via www.trade.gov/ftz.

For further information, contact Christopher Kemp at Christopher.Kemp@trade.gov.

Dated: February 7, 2024.
Elizabeth Whiteman,
Executive Secretary.

[FR Doc. 2024-02896 Filed 2-12-24; 8:45 am]

BILLING CODE 3510-DS-P